DEPARTMENT OF ENERGY

Federal Energy Regulatory Commission

Combined Notice of Filings #1

Take notice that the Commission received the following electric corporate filings:

Docket Numbers: EC17-140-000.

Applicants: Wildorado Wind, LLC.

Description: Application for Approval Under Section 203 of the Federal Power Act of Wildorado Wind, LLC.

Filed Date: 7/21/17.

Accession Number: 20170721-5189.

Comments Due: 5 p.m. ET 8/11/17.

Take notice that the Commission received the following exempt wholesale generator filings:

Docket Numbers: EG17-130-000.

Applicants: Stuttgart Solar, LLC.

Description: Notice of Self-Certification of Exempt Wholesale Generator Status of Stuttgart Solar, LLC.

Filed Date: 7/21/17.

Accession Number: 20170721-5196.

Comments Due: 5 p.m. ET 8/11/17.

Take notice that the Commission received the following electric rate filings:

Docket Numbers: ER17-2120-000.

Applicants: California Independent System Operator Corporation.

Description: § 205(d) Rate Filing: 2017-07-21 DWP EIM Implementation Agreement to be effective 10/1/2017.

Filed Date: 7/21/17.

Accession Number: 20170721-5164.

Comments Due: 5 p.m. ET 8/11/17.

Docket Numbers: ER17-2121-000.

Applicants: Midcontinent Independent System Operator, Inc.

Description: § 205(d) Rate Filing: 2017-07-24_Termination of E&Ps and FCA Project No. J392 to be effective 7/25/2017.

Filed Date: 7/24/17.

Accession Number: 20170724-5069.

Comments Due: 5 p.m. ET 8/14/17.

Docket Numbers: ER17-2122-000.

Applicants: Arkwright Summit Wind Farm LLC.

Description: § 205(d) Rate Filing: Revised Tariff re MBR Docket No. to be effective 7/25/2017.

Filed Date: 7/24/17.

Accession Number: 20170724-5085.

Comments Due: 5 p.m. ET 8/14/17.

Docket Numbers: ER17-2123-000.

Applicants: Blackstone Wind Farm, LLC.

Description: § 205(d) Rate Filing: Revised MBR Tariff re Order No. 819 to be effective 7/25/2017.

Filed Date: 7/24/17.

Accession Number: 20170724-5086.

Comments Due: 5 p.m. ET 8/14/17.

Docket Numbers: ER17-2124-000.

Applicants: Blackstone Wind Farm II LLC.

Description: § 205(d) Rate Filing: Second Revised Tariff re Order No. 819 to be effective 7/25/2017.

Filed Date: 7/24/17.

Accession Number: 20170724-5087.

Comments Due: 5 p.m. ET 8/14/17.

Docket Numbers: ER17-2125-000.

Applicants: Headwaters Wind Farm LLC.

Description: § 205(d) Rate Filing: First Revised Tariff to be effective 7/25/2017.

Filed Date: 7/24/17.

Accession Number: 20170724-5088.

Comments Due: 5 p.m. ET 8/14/17.

Docket Numbers: ER17-2126-000.

Applicants: High Trail Wind Farm, LLC.

Description: § 205(d) Rate Filing: Revised MBR Tariff re 819 AS to be effective 7/25/2017.

Filed Date: 7/24/17.

Accession Number: 20170724-5089.

Comments Due: 5 p.m. ET 8/14/17.

Docket Numbers: ER17-2127-000.

Applicants: Marble River, LLC.

Description: § 205(d) Rate Filing: Revised Tariff re 819 AS to be effective 7/25/2017.

Filed Date: 7/24/17.

Accession Number: 20170724-5090.

Comments Due: 5 p.m. ET 8/14/17.

Docket Numbers: ER17-2128-000.

Applicants: Meadow Lake Wind Farm LLC.

Description: § 205(d) Rate Filing: Revised Tariff re 819 AS to be effective 7/25/2017.

Filed Date: 7/24/17.

Accession Number: 20170724-5091.

Comments Due: 5 p.m. ET 8/14/17.

Docket Numbers: ER17-2129-000.

Applicants: Meadow Lake Wind Farm II LLC.

Description: § 205(d) Rate Filing: Tariff Revisions re 819 AS to be effective 7/25/2017.

Filed Date: 7/24/17.

Accession Number: 20170724-5095.

Comments Due: 5 p.m. ET 8/14/17.

Docket Numbers: ER17-2130-000.

Applicants: Meadow Lake Wind Farm III LLC.

Description: § 205(d) Rate Filing: Revised Tariff re 819 AS to be effective 7/25/2017.

Filed Date: 7/24/17.

Accession Number: 20170724-5096.

Comments Due: 5 p.m. ET 8/14/17.

Docket Numbers: ER17-2131-000.

Applicants: Meadow Lake Wind Farm IV LLC.

Description: § 205(d) Rate Filing: Revised Tariff re 819 AS to be effective 7/25/2017.

Filed Date: 7/24/17.

Accession Number: 20170724-5097.

Comments Due: 5 p.m. ET 8/14/17.

Docket Numbers: ER17-2132-000.

Applicants: Meadow Lake Wind Farm V LLC.

Description: § 205(d) Rate Filing: Revised Tariff re Docket No to be effective 7/25/2017.

Filed Date: 7/24/17.

Accession Number: 20170724-5098.

Comments Due: 5 p.m. ET 8/14/17.

Docket Numbers: ER17-2133-000.

Applicants: Old Trail Wind Farm, LLC.

Description: § 205(d) Rate Filing: Revised Tariff re 819 AS to be effective 7/25/2017.

Filed Date: 7/24/17.

Accession Number: 20170724-5099.

Comments Due: 5 p.m. ET 8/14/17.

Docket Numbers: ER17-2134-000.

Applicants: Duke Energy Carolinas, LLC.

Description: Tariff Cancellation: Cancellation of TSA FIiing to be effective 7/25/2017.

Filed Date: 7/24/17.

Accession Number: 20170724-5100.

Comments Due: 5 p.m. ET 8/14/17.

Docket Numbers: ER17-2135-000.

Applicants: Paulding Wind Farm II LLC.

Description: § 205(d) Rate Filing: Revised Tariff re 819 AS to be effective 7/25/2017.

Filed Date: 7/24/17.

Accession Number: 20170724-5104.

Comments Due: 5 p.m. ET 8/14/17.

Docket Numbers: ER17-2136-000.

Applicants: Paulding Wind Farm III LLC.

Description: § 205(d) Rate Filing: Revised MBR Tariff re Docket to be effective 7/25/2017.

Filed Date: 7/24/17.

Accession Number: 20170724-5105.

Comments Due: 5 p.m. ET 8/14/17.

Docket Numbers: ER17-2137-000.

Applicants: Sustaining Power Solutions LLC.

Description: § 205(d) Rate Filing: RevisedTariff re 819 AS to be effective 7/25/2017.

Filed Date: 7/24/17.

Accession Number: 20170724-5106.

Comments Due: 5 p.m. ET 8/14/17.

Docket Numbers: ER17-2138-000.

Applicants: Chief Conemaugh Power, LLC.

Description: § 205(d) Rate Filing: Revised MBR Tariff to be effective 7/25/2017.

Filed Date: 7/24/17.

Accession Number: 20170724-5131.

Comments Due: 5 p.m. ET 8/14/17.

Docket Numbers: ER17-2139-000.

Applicants: Chief Keystone Power, LLC.

Description: § 205(d) Rate Filing: Revised MBR Tariff to be effective 7/25/2017.

Filed Date: 7/24/17.

Accession Number: 20170724-5134.

Comments Due: 5 p.m. ET 8/14/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 24, 2017.
Kimberly D. Bose,
Secretary.

[FR Doc. 2017-15913 Filed 7-27-17; 8:45 am]

BILLING CODE 6717-01-P